NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 5, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001;

E-mail: records.mgt@nara.gov;

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-03-1, 9 items, 9 temporary items). Records relating to state meat and poultry inspection programs. Included are such records as state performance plans, agreements, comprehensive reviews, quarterly reports, and electronic copies of records created using electronic mail and word processing.

2. Department of Commerce, National Oceanic and Atmospheric Administration (N1-370-03-4, 16 items, 16 temporary items). Records of Weather Forecast Offices and River Forecast Centers relating to the management of observation stations and to the evaluation of the quality of the observations they produce. Included are such records as station management files, station inspection files, station disaster preparedness files, station duty manuals, and electronic copies of records created using electronic mail and word processing.

3. Department of Commerce, National Oceanic and Atmospheric Administration (N1-370-03-5, 45 items, 45 temporary items). Records of the National Weather Service's Office of Operational Systems. Included are files relating to such matters as radio frequency assignments, spectrum allocation, interference cases, and software recommendations. Also included are data, system documentation, inputs, and outputs associated with such systems as the Automated Surface Observing System, the Engineering Management Reporting System, the Unscheduled Outage System, the Management Information Retrieval System, and systems used for tracking software updates to agency radar systems. Also included are weather-observing site/system commissioning files, equipment testing files, after-action and status reports, weather radio coverage maps, high frequency satellite communication systems files, and electronic copies of records created using electronic mail and word processing.

4. Department of Health and Human Services, Centers for Disease Control and Prevention (N1-442-02-2, 6 items, 4 temporary items). Routine supporting documents relating to manuscripts and final reports of research studies. Included are records relating to administrative and logistical aspects of studies and other records that do not contribute to the understanding of the final report. Also included are electronic copies of records created using electronic mail and word processing. Recordkeeping copies of reports and substantive supporting materials are proposed for permanent retention.

5. Department of Homeland Security, Transportation Security Administration (N1-560-03-6, 11 items, 10 temporary items). Correspondence, incident reports, investigative files, and security monitoring camera images accumulated by the Office of Security. Also included are electronic copies of records created using electronic mail and word processing. Proposed for permanent retention are recordkeeping copies of annual Freedom of Information Act reports.

6. Department of Homeland Security, United States Coast Guard (N1-26-04-2, 1 item, 1 temporary item). Strip charts containing data used to ensure the accuracy of the Omega radio navigation system. Records, which were accumulated 1973-1984, were previously approved for permanent retention.

7. Department of Justice, Drug Enforcement Administration (N1-170-04-1, 9 items, 9 temporary items). Polygraph program files documenting the findings and conclusions of polygraph examinations performed in support of drug enforcement investigations, employment applications, and integrity issues. Also included are electronic copies of documents created using electronic mail and word processing.

8. Department of Justice, Bureau of Alcohol, Tobacco, Firearms, and Explosives (N1-436-03-5, 10 items, 4 temporary items). Outputs of the National Field Office Case Information System, which is used to collect, disseminate, manage, and analyze investigative and inspection data. Also included are electronic copies of documents created using electronic mail and word processing. Proposed for permanent retention are the master data files relating to investigations and inspections, along with public use versions, and related system documentation.

9. Department of Justice, Federal Bureau of Investigation (N1-65-04-1, 2 items, 2 temporary items). Documentation created as a result of career board deliberations relating to filling special agent vacancies at the GS-14 and GS-15 level, including electronic copies of records created using electronic mail and word processing.

10. Department of Labor, Employment Standards Administration (N1-271-02-1, 138 items, 128 temporary items). Revised comprehensive schedule for the Office of Workers' Compensation Programs (OWCP), including the Divisions of Federal Employees' Compensation (FECA), Coal Mineworkers' Compensation, and Longshore and Harbor Workers' Compensation (DLHWC). Included are such records as FECA, Coal Mineworkers, and DLHWC compensation case files, summaries of payments for medical, rehabilitation, and other health services, listings of approved and excluded providers, general correspondence, subject files, work measurement reports, training and internal planning records, tracking and imaging systems, x-ray files, and speeches. Also included are electronic copies of documents created using electronic mail and word processing applications. Proposed for permanent retention are recordkeeping copies of such records as OWCP publications, DLHWC directives, published annual and special reports, OWCP directives and bulletins, FECA bulletins, and the Black Lung Accounting System, Claimant and Payment Subsystem and the Medical Bill Processing System databases.

11. Department of Labor, Bureau of Labor Statistics (N1-257-04-2, 8 items, 8 temporary items). Copies of collective bargaining agreements and related records, such as listings of agreements held by the agency and requests for copies received from the public. Agreements, which were previously approved for permanent retention, will be disposed of by transfer to the Kheel Center for Labor-Management Documentation at Cornell University.

12. Department of Labor, Bureau of Labor Statistics (N1-257-03-2, 7 items, 7 temporary items). Computer Century Conversion (Y2K) Files, including policy and planning files, system inventories, and verification reports. Also included are electronic copies of records created using word processing and electronic mail.

13. Department of the Treasury, Bureau of Engraving and Printing (N1-318-04-7, 7 items, 7 temporary items). Records relating to administrative services, including such records as A-76 studies, administrative services program files, and electronic systems used to track the distribution of forms and other administrative activities. Also included are electronic copies of records created using electronic mail and word processing.

14. Department of the Treasury, Bureau of Engraving and Printing (N1-318-04-8, 35 items, 35 temporary items). Records relating to security, including such records as investigation files, surveys, security research files, facility security files, building surveillance tapes, police activity and operations records, police training records, and police supply files. Also included are electronic copies of records created using electronic mail and word processing.

15. Department of the Treasury, Bureau of Engraving and Printing (N1-318-04-22, 16 items, 15 temporary items). Records relating to agency policies and procedures including working files, bulletins, non-controlled directives, indexes to directives, and operational work instructions and manuals. Also included are electronic copies of records created using electronic mail and word processing. Proposed for permanent retention are recordkeeping copies of manuals, circulars, and policy directives.

16. Federal Mediation and Conciliation Service, Office of Arbitration Services (N1-280-03-2, 16 items, 16 temporary items). Records relating to arbitration services, including such records as general correspondence, lists of arbitrators and information concerning them, requests for arbitration panels, and records relating to notices of appeal, including an electronic database. Also included are electronic copies of documents created using electronic mail and word processing.

17. Federal Mediation and Conciliation Service, Office of Education and Training (N1-280-03-3, 10 items, 9 temporary items). Records relating to education and training, such as needs evaluation and assessment records, employee training records, and financial records. Also included are electronic copies of documents created using electronic mail and word processing. Proposed for permanent retention are recordkeeping copies of training materials.

18. National Archives and Records Administration, Office of Records Service—Washington, DC (N2-257-03-1, 1 item, 1 temporary item). Copies of collective bargaining agreements covering the period 1891-1945 and 1958-1981 accumulated by the Bureau of Labor Statistics. Records were transferred to the National Archives but are not of sufficient historical value to warrant continued retention by the National Archives. Records will be disposed of by transfer to the Kheel Center for Labor-Management Documentation at Cornell University.

Dated: February 3, 2004.
Michael J. Kurtz,
Assistant Archivist for Record Services—Washington, DC.

[FR Doc. 04-3555 Filed 2-18-04; 8:45 am]

BILLING CODE 7515-01-P